DEPARTMENT OF VETERANS AFFAIRS

[OMB Control No. 2900-0154]

Agency Information Collection Activity Under OMB Review: Application for VA Education Benefits; Application for Family Member To Use Transferred Benefits; Application for VA Benefits Under the National Call to Service Program

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Written comments and recommendations for the proposed information collection revision should be sent within 30 days of publication of this notice to www.reginfo.gov/public/do/PRAMain. Find this particular information collection by selecting “Currently under 30-day Review—Open for Public Comments” or by using the search function. Refer to “OMB Control No. 2900-0154.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0154” in any correspondence.

SUPPLEMENTARY INFORMATION:

Authority: 38 U.S.C. 3034; 3241, 3323(a), 3471, 5101(a); Public Law 96-342, Section 903; 10 U.S.C. 16131).

Title: Application For VA Education Benefits; Application For Family Member To Use Transferred Benefits; Application For VA Benefits Under The National Call To Service Program, VAFs 22-1990; 1990E and 1990N.

OMB Control Number: 2900-0154.

Type of Review: Revision of a currently approved collection.

Abstract: Applicants complete and submit the Application For Education Benefits, VA Form 22-1990; National Call to Service (NCS), VA Form 22-1990N, or the Transfer of Entitlement (TOE), VA Form 22-1990E to file their claim for VA education benefits, which all have different eligibility requirements. The information requested on each of these forms helps VA to determine the applicant's eligibility to education benefits.

An agency may not conduct or sponsor, and a person is not required to respond to a collection of information unless it displays a currently valid OMB control number. The Federal Register Notice with a 60-day comment period soliciting comments on this collection of information was published at 87 FR 231 on December 2, 2022, page 74214.

Affected Public: Individuals and Households.

Estimated Annual Burden: 170,780 hours.

Estimated Average Burden Time per Respondent: 15 minutes.

Frequency of Response: Once.

Estimated Number of Respondents: 683,122.

By direction of the Secretary.
Maribel Aponte,
VA PRA Clearance Officer, Office of Enterprise and Integration, Data Governance Analytics, Department of Veterans Affairs.

[FR Doc. 2023-02394 Filed 2-3-23; 8:45 am]

BILLING CODE 8320-01-P